DEPARTMENT OF THE INTERIOR

Fish and Wildlife Service

[Docket No. FWS-R4-ES-2020-0089; FXES11130400000EA-123-FF04EF1000]

Receipt of Incidental Take Permit Application and Proposed Habitat Conservation Plan for the Alabama Beach Mouse, Baldwin County, AL; Categorical Exclusion

AGENCY: Fish and Wildlife Service, Interior.

ACTION: Notice of availability; request for comment and information.

SUMMARY: We, the Fish and Wildlife Service (Service), announce receipt of an application from SeaGlades at St. Andrew Bay (applicant) for an incidental take permit (ITP) under the Endangered Species Act. The applicant requests the ITP to take the federally listed Alabama beach mouse incidental to construction of twenty-seven single family homes and amenities in Baldwin County, Alabama. We request public comment on the application, which includes the applicant's proposed habitat conservation plan (HCP), and the Service's preliminary determination that this HCP qualifies as “low-effect,” categorically excluded, under the National Environmental Policy Act. To make this determination, we used our low-effect screening form, which is also available for public review.

DATES: We must receive your written comments on or before September 21, 2020.

ADDRESSES:

Obtaining Documents: You may obtain copies of the documents online in Docket No. FWS-R4-ES-2020-0089 at http://www.regulations.gov.

Submitting Comments: If you wish to submit comments on any of the documents, you may do so in writing by any of the following methods:

• Online: http://www.regulations.gov. Follow the instructions for submitting comments on Docket No. FWS-R4-ES-2020-0089.

• U.S. Mail: Public Comments Processing, Attn: Docket No. FWS-R4-ES-2020-0089; U.S. Fish and Wildlife Service, MS: PRB/3W, 5275 Leesburg Pike, Falls Church, VA 22041-3803.

FOR FURTHER INFORMATION CONTACT: Mr. William Lynn by telephone at (251) 441-5868 or via email at William_Lynn@fws.gov. Individuals who are hearing or speech impaired may call the Federal Relay Service at 1-800-877-8339 for TTY assistance.

SUPPLEMENTARY INFORMATION: We, the Fish and Wildlife Service, announce receipt of an application from SeaGlades at St. Andrew Bay (applicant) for an incidental take permit (ITP) under the Endangered Species Act of 1973, as amended (ESA; 16 U.S.C. 1531 et seq.) The applicant requests the ITP to take the federally listed Alabama beach mouse (Peromyscus polionotus ammobates) incidental to the construction of 27 single-family homes and amenities (project) in Baldwin County, Alabama. We request public comment on the application, which includes the applicant's proposed habitat conservation plan (HCP) and the Service's preliminary determination that this HCP qualifies as “low-effect,” categorically excluded, under the National Environmental Policy Act (NEPA; 42 U.S.C. 4231 et seq.) To make this determination, we used our and low-effect screening form, which is also available for public review.

Project

The applicant requests a 50-year ITP to take Alabama beach mice through the conversion of approximately 2.58 acres of occupied Alabama beach mouse habitat incidental to the construction of 27 single-family homes with amenities located on a 10.53-acre parcel in Baldwin County, Alabama. The applicant proposes to minimize and mitigate for take of the Alabama beach mouse through standard minimization, mitigation measures and monitoring onsite population of the species with fall and spring trapping surveys (twice a year) for the next 50 years. Standard mitigation and minimization measures are a reduced footprint of 0.10 acres or less for each lot (27 lots) within the 10.53-acre parcel, creation of an on-site Alabama beach mouse conservation area and a $37,000 monitoring and dune management fund. The applicant also will install fully shielded exterior lighting, tinted windows, native vegetation for landscaping, and driveway materials that will not disperse in a storm surge. There will be refuse control, restoration of habitat after tropical storms, and prohibitions on the use of exterior rodenticides and cats roaming free within the property. The Service would require that the applicant ensure that all funding for the HCP is available upfront and prior to its engaging in activities associated with the project.

Public Availability of Comments

Before including your address, phone number, email address, or other personal identifying information in your comment, be aware that your entire comment, including your personal identifying information, may be made available to the public. While you may request that we withhold your personal identifying information, we cannot guarantee that we will be able to do so.

Our Preliminary Determination

The Service has made a preliminary determination that the applicant's project, including land clearing, infrastructure building, landscaping, and the proposed minimization and mitigation measures, would individually and cumulatively have a minor or negligible effect on the Alabama beach mouse and the environment. Therefore, we have preliminarily concluded that the ITP for this project would qualify for categorical exclusion and the HCP is low effect under our NEPA regulations at 43 CFR 46.205 and 46.210. A low-effect HCP is one that would result in (1) minor or negligible effects on federally listed, proposed, and candidate species and their habitats; (2) minor or negligible effects on other environmental values or resources; and (3) impacts that, when considered together with the impacts of other past, present, and reasonably foreseeable similarly situated projects, would not over time result in significant cumulative effects to environmental values or resources over time.

Next Steps

The Service will evaluate the application and the comments received to determine whether to issue the requested permit. We will also conduct an intra-Service consultation pursuant to section 7 of the ESA to evaluate the effects of the proposed take. After considering the above findings, we will determine whether the permit issuance criteria of section 10(a)(l)(B) of the ESA have been met. If met, the Service will issue ITP number TE63246D-0 to SeaGlades at St. Andrew Bay.

Authority

The Service provides this notice under section 10(c) (16 U.S.C. 1539(c)) of the ESA and NEPA regulation 40 CFR 1506.6.

William Pearson,
Field Supervisor, Alabama Ecological Service Office.

[FR Doc. 2020-18326 Filed 8-20-20; 8:45 am]

BILLING CODE 4333-15-P